DEPARTMENT OF THE INTERIOR

Bureau of Land Management

[OR-958-6310-PF-24 1A]

Submission to Office of Management and Budget—Information Collection, OMB Control Number 1004-0168

AGENCY: Bureau of Land Management, Interior.

ACTION: Notice and request for comments.

SUMMARY: In accordance with the Paperwork Reduction Act of 1995, the Bureau of Land Management (BLM) has submitted a request for an extension of an approved information collection to the Office of Management and Budget (OMB) for approval.

DATES: The OMB is required to respond to this request within 60 days but may respond after 30 days. Submit your comments to OMB at the address below by November 26, 2007 to receive maximum consideration.

ADDRESSES: Send comments to the OMB, Interior Department Desk Officer (1004-0168), at OMB-OIRA via e-mail OIRA_DOCKET@omb.eop.gov or via facsimile at (202) 395-6566. Also please send a copy of your comments to BLM via Internet and include your name, address, and ATTN: 1004-0168 in your Internet message to comments_washington@blm.gov or via mail to: U.S. Department of the Interior, Bureau of Land Management, Mail Stop 401LS, 1849 C Street, NW., ATTN: Bureau Information Collection Clearance Officer (WO-630), Washington, DC 20240.

FOR FURTHER INFORMATION CONTACT: You may contact Ted Hudson to obtain copies and explanatory material on this information collection at (202) 452-5042. Persons who use a telecommunication device for the deaf (TDD) may call the Federal Information Relay Service (FIRS) on 1-800-877-8330, 24 hours a day, seven days a week, to contact Mr. Hudson.

SUPPLEMENTARY INFORMATION: On June 9, 2006, the BLM published a notice in the Federal Register (71 FR 33481) requesting comments on the information collection. The comment period closed on August 8, 2006. The BLM did not receive any comments.

We are soliciting comments on the following:

(a) Whether the collection of information is necessary for the proper functioning of the agency, including whether the information will have practical utility;

(b) The accuracy of our estimates of the information collection burden, including the validity of the methodology and assumptions we use;

(c) Ways to enhance the quality, utility, and clarity of the information collected; and

(d) Ways to minimize the information collection burden on those who are to respond, including the use of appropriate automated, electronic, mechanical, or other technological collection techniques or other forms of information technology.

Title: Tramroads and Logging Roads (43 CFR part 2810).

OMB Control Number: 1004-0168.

Abstract: The BLM provides for tramroads and logging roads over the Revested Oregon and California Railroad and Reconveyed Coos Bay Wagon Road Grant Lands (O. and C. lands) 43 CFR part 2810, subpart 2812. These regulations implement the following statutes:

(1) Act of August 28, 1937 (43 U.S.C. 1181a & b); and

(2) The Federal Land Policy and Management Act of 1976 (43 U.S.C. 1762).

The BLM uses this information to approve use of BLM roads for access to timber on the O. and C. lands, and to determine the amount of charges for such use.

Burden Estimate Per Form: We estimate the completion time for the form information that is submitted quarterly by the private sector as follows:

Burden hours information collected | Number of actions per year | Burden hours per action | Total annual burden hours
(a) Report of Road Use (2812-6) and related non-form information in 43 CFR part 2810 | 272 | 8 | 2,176
Totals | 272 |  | 2,176

Annual Responses: 272.

Application Fee Per Response: 0.

Annual Burden Hours: 2,176.

Dated: October 22, 2007.
Ted R. Hudson,
Acting Chief, Division of Regulatory Affairs.

[FR Doc. E7-21079 Filed 10-25-07; 8:45 am]

BILLING CODE 4310-84-P